DEPARTMENT OF COMMERCE

International Trade Administration

[A-552-801]

Certain Frozen Fish Fillets from the Socialist Republic of Vietnam: Rescission of Antidumping Duty New Shipper Review; 2012-2013

AGENCY: Import Administration, International Trade Administration, Department of Commerce.

SUMMARY: In response to a request from Ngoc Ha Co. Ltd. Food Processing and Trading (“Ngoc Ha”), the Department of Commerce (“the Department”) initiated a new shipper review of the antidumping duty order on certain frozen fish fillets from the Socialist Republic of Vietnam (“Vietnam”) covering the period August 1, 2012, through January 31, 2013.¹ On May 23, 2013, Ngoc Ha withdrew its request for a new shipper review. Accordingly, the Department is rescinding the new shipper review with respect to Ngoc Ha.

¹ See Certain Frozen Fish Fillets from the Socialist Republic of Vietnam: Initiation of Antidumping Duty New Shipper Review; 2012-2013, 78 FR 18957 (March 28, 2013) (“Initiation Notice”).

DATES: Effective July 3, 2013.

FOR FURTHER INFORMATION CONTACT: Alexander Montoro, AD/CVD Operations, Office 9, Import Administration, International Trade Administration, U.S. Department of Commerce, 14th Street and Constitution Avenue NW., Washington, DC 20230; telephone: (202) 482-0238.

Rescission of New Shipper Review

On May 23, 2013, Ngoc Ha withdrew its new shipper review request.² 19 CFR 351.214(f)(1) provides that, the Department may rescind a new shipper review, if the party that requested the review withdraws its request for review within 60 days of the date of publication of the notice of initiation of the requested review. Given that Ngoc Ha withdrew its request for a new shipper review 55 days after the date of publication of the notice of initiation of the requested review, the Department is rescinding the new shipper review of the antidumping duty order on certain frozen fish fillets from Vietnam with respect to Ngoc Ha. Consequently, Ngoc Ha will remain part of the Vietnam-wide entity.

² See letter from Ngoc Ha entitled “Certain Frozen Fish Fillets from the Socialist Republic of Vietnam: Withdrawal of Request for a New Shipper Review,” dated May 23, 2013.

Assessment

Because Ngoc Ha remains part of the Vietnam-wide entity, its entries may become subject to review if interested parties request an administrative review of the antidumping duty order of certain frozen fish fillets from Vietnam covering the period August 1, 2012, to July 31, 2013. The opportunity to request an administrative review of entries of subject merchandise entered during that period has not yet expired. Therefore, the Department will not order liquidation of entries for Ngoc Ha. The Department intends to issue liquidation instructions for the Vietnam-wide entity, which will cover any entries by Ngoc Ha, 15 days after publication of the final results of the administrative review covering the period August 1, 2012, to July 31, 2013, if such a review is requested. If no such review is requested, the Department will issue liquidation instructions for the Vietnam-wide entity at the appropriate time.

Cash Deposit

The Department will notify U.S. Customs and Border Protection (“CBP”) that bonding is no longer permitted to fulfill security requirements for subject merchandise produced and exported by Ngoc Ha that is entered, or withdrawn from warehouse, for consumption in the United States on or after the publication of this rescission notice in the Federal Register. The Department will notify CBP that a cash deposit of 2.11 U.S. dollars per kilogram should be collected for all shipments of subject merchandise by Ngoc Ha entered, or withdrawn from warehouse, for consumption in the United States on or after the publication of this rescission notice.

Notifications to Interested Parties

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the return or destruction of proprietary information disclosed under APO in accordance with 19 CFR 351.305(a). Timely written notification of the return or destruction of APO materials, or conversion to judicial protective order, is hereby requested. Failure to comply with the regulations and terms of an APO is a violation which is subject to sanction.

We are issuing and publishing this rescission and notice in accordance with sections 751(a)(2)(B) and 777(i) of the Act and 19 CFR 351.214(f)(3).

Dated: June 26, 2013.
Gary Taverman,
Senior Advisor for Antidumping and Countervailing Duty Operations.

[FR Doc. 2013-16020 Filed 7-2-13; 8:45 am]

BILLING CODE 3510-DS-P